DEPARTMENT OF HOUSING AND URBAN DEVELOPMENT

[Docket No. FR-7050-N-34]

30-Day Notice of Proposed Information Collection: Rural Capacity Building; OMB Control No.: 2506-0195

AGENCY: Office of Policy Development and Research, Chief Data Officer, HUD.

ACTION: Notice.

SUMMARY: The proposed information collection requirement described below will be submitted to the Office of Management and Budget (OMB) for review, as required by the Paperwork Reduction Act. The Department is soliciting public comments on the subject proposal.

DATES: Comments Due Date: August 8, 2022.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov. Persons with hearing or speech impairments may access this number through TTY by calling the toll-free Federal Relay Service at (800) 877-8339.

FOR FURTHER INFORMATION CONTACT: Anna P. Guido, Reports Management Officer, REE, Department of Housing and Urban Development, 451 7th Street SW, Washington, DC 20410; email her at Anna.P.Guido@hud.gov or telephone 202-402-5535. This is not a toll-free number. Copies of available documents submitted to OMB may be obtained from Ms. Guido.

SUPPLEMENTARY INFORMATION: This notice informs the public that HUD has submitted to OMB a request for approval of the information collection described in Section A. The Federal Register notice that solicited public comment on the information collection for a period of 60 days was published on March 16, 2022, at 87 FR 14903.

A. Overview of Information Collection

Title of Information Collection: Rural Capacity Building.

OMB Approval Number: 2506-0195.

Type of Request: Revision of a currently approved collection.

Form Number: SF-424, SF-424B, SF-LLL, HUD 2880, HUD 4130.

Description of the need for the information and proposed use: The Rural Capacity Building for Community Development and Affordable Housing (RCB) program and the funding made available have been authorized by the Annual Appropriations Acts each year since FY 2012. The RCB program enhances the capacity and ability of rural housing development organizations, Community Development Corporations (CDCs), Community Housing Development Organizations (CHDOs), local governments, and Indian tribes (eligible beneficiaries) to carry out affordable housing and community development activities in rural areas for the benefit of low- and moderate-income families and persons. The RCB program achieves this by funding National Organizations with expertise in rural housing and rural community development who work directly to build the capacity of eligible beneficiaries. Applicants to the RCB program are required to submit certain information as part of their application for assistance, and as part of the requirements as a grantee.

Information collection | Number of respondents | Frequency of response | Responses per annum | Burden hour per response | Total annual burden hours | Hourly cost per response | Annual cost
Application
SF 424 | 0 | 0 | 0 | 0 | 0 | 0 | 0
SF 424B | 0 | 0 | 0 | 0 | 0 | 0 | 0
HUD 4130 Multi-Year Budget | 20.00 | 1.00 | 20.00 | 3.00 | 60.00 | $63.97 | $3,838.20
SF LLL | 0 | 0 | 0 | 0 | 0 | 0 | 0
HUD 2880 | 20.00 | 1.00 | 20.00 | 0.25 | 5.00 | 63.97 | 319,85
Rating Factor 1 | 20.00 | 1.00 | 20.00 | 8.00 | 160.00 | 63.97 | 10,235.20
Rating Factor 2 | 20.00 | 1.00 | 20.00 | 8.00 | 160.00 | 63.97 | 10,235.20
Rating Factor 3 | 20.00 | 1.00 | 20.00 | 12.00 | 240.00 | 63.97 | 15,352.80
Rating Factor 4 | 20.00 | 1.00 | 20.00 | 8.00 | 160.00 | 63.97 | 10,235.20
Rating Factor 5 | 20.00 | 1.00 | 20.00 | 5.00 | 100.00 | 63.97 | 6,397.00
Reporting
SF-425 | 0 | 0 | 0 | 0 | 0 | 0 | 0
Totals | 20.00 |  |  | 44.25 | 885.00 |  | 56,613.45

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Department Reports Management Officer, Office of the Chief Data Officer.

[FR Doc. 2022-14383 Filed 7-6-22; 8:45 am]

BILLING CODE 4210-67-P